DEPARTMENT OF TRANSPORTATION

Federal Aviation Administration

14 CFR Part 39

[Docket No. 2001-NM-33-AD; Amendment 39-12280; AD 2001-12-24]

RIN 2120-AA64

Airworthiness Directives; Bombardier Model CL-600-2B19 Series Airplanes

AGENCY: Federal Aviation Administration, DOT.

ACTION: Final rule.

SUMMARY: This amendment supersedes an existing airworthiness directive (AD), applicable to certain Bombardier Model CL-600-2B19 series airplanes, that currently requires repetitive ultrasonic inspection to detect damage of the actuator lugs of the flight spoiler center hinge; and corrective action, if necessary. This amendment mandates the previously optional terminating action by requiring replacement of the flight spoilers with new improved spoilers. The actions specified by this AD are intended to prevent uncommanded deployment of a flight spoiler, which could result in reduced controllability of the airplane. This action is intended to address the identified unsafe condition.

DATES: Effective July 26, 2001.

The incorporation by reference of certain publications, as listed in the regulations, was approved previously by the Director of the Federal Register as of March 1, 2001 (66 FR 10187).

ADDRESSES: The service information referenced in this AD may be obtained from Bombardier, Inc., Canadair, Aerospace Group, P.O. Box 6087, Station Centreville, Montreal, Quebec H3C 3G9, Canada. This information may be examined at the Federal Aviation Administration (FAA), Transport Airplane Directorate, Rules Docket, 1601 Lind Avenue, SW., Renton, Washington; or at the FAA, New York Aircraft Certification Office, 10 Fifth Street, Third Floor, Valley Stream, New York; or at the Office of the Federal Register, 800 North Capitol Street, NW., suite 700, Washington, DC.

FOR FURTHER INFORMATION CONTACT: Serge Napoleon, Aerospace Engineer, Airframe and Propulsion Branch, ANE-171, FAA, New York Aircraft Certification Office, 10 Fifth Street, Third Floor, Valley Stream, New York 11581; telephone (516) 256-7512; fax (516) 568-2716.

SUPPLEMENTARY INFORMATION: A proposal to amend part 39 of the Federal Aviation Regulations (14 CFR part 39) by superseding AD 2001-03-04, amendment 39-12107 (66 FR 10187, February 14, 2001), which is applicable to certain Bombardier Model CL-600-2B19 series airplanes, was published in the Federal Register on March 29, 2001 (66 FR 17094). The action proposed to continue to require repetitive ultrasonic inspection to detect damage of the actuator lugs of the flight spoiler center hinge; and corrective action, if necessary. The action also proposed to mandate the previously optional terminating action by requiring replacement of the flight spoilers with new improved spoilers.

Comments

Interested persons have been afforded an opportunity to participate in the making of this amendment. No comments were submitted in response to the proposal or the FAA's determination of the cost to the public.

Conclusion

The FAA has determined that air safety and the public interest require the adoption of the rule as proposed.

Cost Impact

There are approximately 195 Bombardier Model CL-600-2B19 series airplanes of U.S. registry that will be affected by this AD.

The inspections that are currently required by AD 2001-03-04, and retained in this new AD, take approximately 2 work hours per airplane to accomplish, at an average labor rate of $60 per work hour. Based on these figures, the cost impact of the currently required actions on U.S. operators is estimated to be $23,400, or $120 per airplane, per inspection cycle.

The new replacement that is required by this AD will take approximately 4 work hours per airplane to accomplish, at an average labor rate of $60 per work hour. The required parts will be provided by the manufacturer at no cost to the operators. Based on these figures, the cost impact of the new replacement required by this AD on U.S. operators is estimated to be $46,800, or $240 per airplane.

The cost impact figures discussed above are based on assumptions that no operator has yet accomplished any of the requirements of this AD, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption “ADDRESSES.”

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-12107 (66 FR 10187, February 14, 2001), and by adding a new airworthiness directive (AD), amendment 39-12280, to read as follows:

2001-12-24 Bombardier, Inc. (Formerly Canadair): Amendment 39-12280. Docket 2001-NM-33-AD. Supersedes AD 2001-03-04, Amendment 39-12107.

Applicability: Model CL-600-2B19 series airplanes, 7003 though 7340 inclusive; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if the unsafe condition has not been eliminated, the request should include specific proposed actions to address it.

Compliance: Required as indicated, unless accomplished previously.

To prevent uncommanded deployment of a flight spoiler, which could result in reduced controllability of the airplane, accomplish the following:

Restatement of Requirements of AD 2001-03-04

Inspections

(a) Prior to the accumulation of 3,000 total flight cycles or within 30 days after March 1, 2001 (the effective date of AD 2001-03-04, amendment 39-12107): Perform nondestructive evaluation procedure NDE UT-35 (ultrasonic inspections) to detect damage (e.g., cracking) of the actuator lugs on both of the center hinge fittings of flight spoilers part numbers (P/N) 600-10602-1001 and -1002, at spoiler stations 195.36 and 204.36; in accordance with Section 2, Accomplishment Instructions, Part A of Bombardier Alert Service Bulletin A601R-57-027, Revision C, dated May 30, 2000. If no damage is detected, repeat the inspection at intervals not to exceed 500 flight cycles until the requirements of paragraph (c) of this AD have been accomplished.

Note 2: Accomplishment of the nondestructive evaluation procedure in accordance with Bombardier Alert Service Bulletin A601R-57-027, dated April 19, 1999; Revision A, dated July 23, 1999; or Revision B, dated December 8, 1999; is acceptable for compliance with the requirements of paragraph (a) of this AD.

Corrective Actions

(b) If any damage (e.g., cracking) is detected during the inspection required by paragraph (a) of this AD: Prior to further flight, remove the damaged flight spoiler and perform nondestructive evaluation procedure NDE ET-27 of the lug, per Section 2 of the Accomplishment Instructions of Part B of Bombardier Alert Service Bulletin A601R-57-027, Revision C, dated May 30, 2000.

(1) If no damage is detected, repeat the inspection required by paragraph (a) of this AD at intervals not to exceed 500 flight cycles until the requirements of paragraph (c) of this AD have been accomplished.

(2) If any damage is detected, prior to further flight, replace the damaged flight spoiler with a new or serviceable flight spoiler, per Bombardier Service Bulletin 601R-57-029, dated May 30, 2000.

(i) For a flight spoiler with no damage or one that is replaced with a new or serviceable flight spoiler: Repeat the inspection required by paragraph (a) of this AD at intervals not to exceed 500 flight cycles, until the requirements of paragraph (c) of this AD have been accomplished.

(ii) If both flight spoilers are replaced with new improved spoilers, no further action is required by this AD.

New Requirements of this AD

Replacement of Certain Flight Spoilers

(c) Within 36 months after the effective date of this AD, replace any flight spoiler having part number (P/N) 600-10602-1001 or 600-10602-1002 with a new improved left-hand flight spoiler having P/N 600-10602-73 or a new right-hand flight spoiler having P/N 600-10602-74, as applicable; in accordance with Bombardier Service Bulletin 601R-57-029, dated May 30, 2000. Such replacement of both the left-hand and right-hand flight spoilers constitutes terminating action for the repetitive inspection requirements of this AD.

Reporting Requirements

(d) Within 30 days of accomplishing the inspection required by paragraph (a) of this AD: Submit a report of any findings of cracking to Bombardier, Inc., Canadair, Aerospace Group, P.O. Box 6087, Station Centre-ville, Montreal, Quebec H3C 3G9, Canada. Information collection requirements contained in this regulation have been approved by the Office of Management and Budget (OMB) under the provisions of the Paperwork Reduction Act of 1980 (44 U.S.C. 3501 et seq.) and have been assigned OMB Control Number 2120-0056.

Alternative Methods of Compliance

(e) An alternative method of compliance or adjustment of the compliance time that provides an acceptable level of safety may be used if approved by the Manager, New York Aircraft Certification Office (ACO), FAA. Operators shall submit their requests through an appropriate FAA Principal Maintenance Inspector, who may add comments and then send it to the Manager, New York ACO.

Note 3: Information concerning the existence of approved alternative methods of compliance with this AD, if any, may be obtained from the New York ACO.

Special Flight Permits

(f) Special flight permits may be issued in accordance with sections 21.197 and 21.199 of the Federal Aviation Regulations (14 CFR 21.197 and 21.199) to operate the airplane to a location where the requirements of this AD can be accomplished.

Incorporation by Reference

(g) The actions shall be done in accordance with Bombardier Alert Service Bulletin A601R-57-027, Revision C, dated May 30, 2000; and Bombardier Service Bulletin 601R-57-029, dated May 30, 2000. The incorporation by reference of these documents was approved previously by the Director of the Federal Register as of March 1, 2001 (66 FR 10187, February 14, 2001). Copies may be obtained from Bombardier, Inc., Canadair, Aerospace Group, P.O. Box 6087, Station Centre-ville, Montreal, Quebec H3C 3G9, Canada. Copies may be inspected at the FAA, Transport Airplane Directorate, 1601 Lind Avenue, SW., Renton, Washington; or at the FAA, New York Aircraft Certification Office, 10 Fifth Street, Third Floor, Valley Stream, New York; or at the Office of the Federal Register, 800 North Capitol Street, NW., suite 700, Washington, DC.

Note 4: The subject of this AD is addressed in Canadian airworthiness directive CF-2000-15R1, dated February 22, 2001.

Effective Date

(h) This amendment becomes effective on July 26, 2001.

Issued in Renton, Washington, on June 14, 2001.
Vi L. Lipski,
Manager, Transport Airplane Directorate, Aircraft Certification Service.

[FR Doc. 01-15573 Filed 6-20-01; 8:45 am]

BILLING CODE 4910-13-P